COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: September 22, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 7/19/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

7510-01-670-3776—Toner, Remanufactured, LaserJet, Standard Yield, HP 4700/N/DN/DTN/PH Compatible, Black

7510-01-670-3781—Toner, Remanufactured, LaserJet, Standard Yield, HP 4700/N/DN/DTN/PH Compatible, Cyan

7510-01-670-3778—Toner, Remanufactured, LaserJet, Standard Yield, HP 4700/N/DN/DTN/PH Compatible, Yellow

7510-01-670-9250—Toner, Remanufactured, LaserJet, Standard Yield, HP 4700/N/DN/DTN/PH Compatible, Magenta

Mandatory Source of Supply: Alabama Industries for the Blind, Talladega, AL

Contracting Activity: GSA/FAS ADMIN SVCS ACQUISITION BR(2, NEW YORK, NY

NSN—Product Name: MR 10735—Crust Cutter, Licensed, Includes Shipper 20735

Mandatory Source of Supply: Winston-Salem Industries for the Blind, Inc., Winston-Salem, NC

Contracting Activity: Military Resale-Defense Commissary Agency

Services

Service Type: Litter Pickup

Mandatory for: Andrews Air Force Base, Andrews AFB, MD

Mandatory Source of Supply: The Chimes, Inc., Baltimore, MD

Contracting Activity: DEPT OF THE AIR FORCE, FA4416 316 CONS LGC

Service Type: Janitorial/Custodial

Mandatory for: Forest Supervisor's Office and Warehouse, 3815 Schreiber Way, Coeur d'Alene, ID

Mandatory Source of Supply: Skils'kin, Spokane, WA

Contracting Activity: FOREST SERVICE, IMAT ACQUISITION TEAM

Service Type: Janitorial/Guard Service

Mandatory for: VA Outpatient Clinic, Brighton, NY

Mandatory Source of Supply: Rochester Rehabilitation Center, Rochester, NY

Contracting Activity: VETERANS AFFAIRS, DEPARTMENT OF, NAC

Service Type: Food Service Attendant

Mandatory for: Veterans Affairs Medical Center: 7305 N Military Trail, West Palm Beach, FL

Mandatory Source of Supply: Gulfstream Goodwill Industries, Inc., West Palm Beach, FL

Contracting Activity: VETERANS AFFAIRS, DEPARTMENT OF, NAC

Service Type: Parking Facility Attendant

Mandatory for: Department of Veterans Affairs Medical Center: 4646 John R Street, John D. Dingell VA Medical Center, Detroit, MI

Mandatory Source of Supply: Jewish Vocational Service and Community Workshop, Southfield, MI

Contracting Activity: VETERANS AFFAIRS, DEPARTMENT OF, NAC

Service Type: Switchboard Operation

Mandatory for: Veterans Affairs Medical Center: 4300 West 7th Street, North Little Rock, AR

Mandatory Source of Supply: Pathfinder, Inc., Jacksonville, AR

Contracting Activity: VETERANS AFFAIRS, DEPARTMENT OF, DEPARTMENT OF VETERANS AFFAIRS

Patricia Briscoe,
Deputy Director, Business Operations (Pricing and Information Management).

[FR Doc. 2019-18195 Filed 8-22-19; 8:45 am]

BILLING CODE 6353-01-P